DEPARTMENT OF EDUCATION

Advisory Committee on Student Financial Assistance: Meeting

AGENCY: Advisory Committee on Student Financial Assistance, Education.

ACTION: Announcement of open teleconference meeting.

SUMMARY: This notice sets forth the schedule and proposed agenda of a forthcoming open teleconference meeting of the Advisory Committee on Student Financial Assistance. This notice also describes the functions of the Advisory Committee. Notice of this meeting is required under Section 10(a)(2) of the Federal Advisory Committee Act. This document is intended to notify the general public of their opportunity to attend.

DATES: The Committee will meet via teleconference on Wednesday, September 9, 2015, beginning at 3:00 p.m. and ending at approximately 3:30 p.m. (EDT).

ADDRESSES: Office of the Advisory Committee on Student Financial Assistance, Capitol Place, 555 New Jersey Ave NW., Suite 522, Washington DC 20202-7582.

FOR FURTHER INFORMATION CONTACT: Ms. Tracy Jones, Executive Officer, Advisory Committee on Student Financial Assistance, Capitol Place, 555 New Jersey Ave NW., Suite 522, Washington DC 20202-7582, (202) 219-2099.

SUPPLEMENTARY INFORMATION: Statutory Authority and Function: The Advisory Committee on Student Financial Assistance is established under Section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act. In addition, Congress expanded the Advisory Committee's mission in the Higher Education Opportunity Act of 2008 to include several important areas: Access, Title IV modernization, early information and needs assessment and review and analysis of regulations. Specifically, the Advisory Committee is to review, monitor and evaluate the Department of Education's progress in these areas and report recommended improvements to Congress and the Secretary.

Meeting Agenda

The Advisory Committee has scheduled this teleconference for the sole purpose of electing an ACSFA member to serve as chair and a member to serve as vice-chair for one year beginning October 1, 2015.

Space at the New Jersey Avenue meeting site and “dial-in” (listen only) line for the teleconference meeting is limited, and you are encouraged to register early if you plan to attend. You may register by sending an email to the following email address: tracy.deanna.jones@ed.gov. Please include your name, title, affiliation, complete address (including internet and email, if available), and telephone and fax numbers. If you are unable to register electronically, you may fax your registration information to the Advisory Committee staff office at (202) 219-3032. You may also contact the Advisory Committee staff directly at (202) 219-2099. The registration deadline is Wednesday, September 2, 2015.

Access to Records of the Meeting: The Department will post the official report of the meeting on the Committee's Web site 90 days after the meeting. Pursuant to the FACA, the public may also inspect the materials at 555 New Jersey Ave NW., Suite 522, Washington, DC, or by emailing acsfa@ed.gov or by calling (202) 219-2099 to schedule an appointment.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Section 491 of the Higher Education Act of 1965 as amended by Public Law 100-50 (20 U.S.C. 1098).

William J. Goggin,
Executive Director, Advisory Committee on Student Financial Assistance.

[FR Doc. 2015-20947 Filed 8-26-15; 8:45 am]

BILLING CODE P